DEPARTMENT OF TRANSPORTATION

Federal Aviation Administration

Notice of Intent to Rule on Request to Release Airport Property at the Woodbine Municipal Airport, Woodbine, NJ

AGENCY: Federal Aviation Administration (FAA), DOT.

ACTION: Notice of request to release airport property.

SUMMARY: The FAA proposes to rule and invite public comment on the release of land at the Woodbine Municipal Airport, Woodbine, New Jersey under the provision 49 U.P.C. 47125(a).

DATES: Comments must be received on or before March 13, 2013.

ADDRESSES: Comments on this application may be mailed or delivered to the following address: Mayor William Pikolycky, Chairman, Woodbine Municipal Airport, 660 Henry DeCinque Boulevard, Woodbine, New Jersey 08270, and at the FAA Harrisburg Airports District Office: Lori K. Pagnanelli, Manager, Harrisburg Airports District Office, 3905 Hartzdale Dr., Suite 508, Camp Hill, PA 17011.

FOR FURTHER INFORMATION CONTACT: Lori Ledebohm, Community Planner, Harrisburg Airports District Office location listed above.

The request to release property may be reviewed in person at this same location.

SUPPLEMENTARY INFORMATION: The FAA invites public comment on the request to release property at the Woodbine Municipal Airport under the provisions of Section 47125(a) of Title 49 U.S.C. On April 20, 2011, the FAA determined that the request to release property at the Woodbine Municipal Airport (OBI), New Jersey, submitted by the Woodbine Port Authority (Authority) met the procedural requirements.

The following is a brief overview of the request:

The Authority requests the release of real property totaling 8.99 acres of non-aeronautical airport property to Paul Gentilini and D.M.A. Investments, LLC dba Gentilini Ford, Woodbine, NJ. The land was originally acquired by the Borough of Woodbine in 1947 from the Reconstruction Finance Corporation and the USA through the War Assets Administration. The undeveloped property is located immediately adjacent to DeHirsch Avenue and Henry DeCinque Drive. Gentilini Ford is proposing to develop the property as an extension of the existing automobile dealership, to include parking and service lanes, office space, parts storage and a maintenance building. The subject land does not serve an aeronautical purpose and is not needed for airport development, as shown on the Airport Layout Plan. All proceeds from the sale of property are to be used for the capital development of the airport. Fair Market Value (FMV) will be obtained from the land sale and reinvested back into an AIP eligible project at the airport.

Any person may inspect the request by appointment at the FAA office address listed above. Interested persons are invited to comment on the proposed release from obligations. All comments will be considered by the FAA to the extent practicable.

Issued in Camp Hill, Pennsylvania, February 5, 2013.
Lori K. Pagnanelli,
Manager, Harrisburg Airports District Office.

[FR Doc. 2013-03025 Filed 2-8-13; 8:45 am]

BILLING CODE 4910-13-P